DEPARTMENT OF TRANSPORTATION

Pipeline and Hazardous Materials Safety Administration

Office of Hazardous Materials Safety; Notice of Delays In Processing of Special Permits Applications

AGENCY: Pipeline and Hazardous Materials Safety Administration (PHMSA), DOT.

ACTION: List of Applications Delayed more than 180 days.

SUMMARY: In accordance with the requirements of 49 U.S.C. 5 117(c), PHMSA is publishing the following list of special permit applications that have been in process for 180 days or more. The reason(s) for delay and the expected completion date for action on each application is provided in association with each identified application.

FOR FURTHER INFORMATION CONTACT: Delmer F. Billings, Director, Office of Hazardous Materials Special Permits and Approvals, Pipeline and Hazardous Materials Safety Administration, U.S. Department of Transportation, East Building, PHH-30, 1200 New Jersey Avenue, Southeast, Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

PM—Party to application with modification request.

Issued in Washington, DC, on January 21, 2010.
Delmer F. Billings,
Director, Office of Hazardous Materials, Special Permits and Approvals.

Modification to Special Permits
Application No. | Applicant | Reason for delay | Estimated date of completion
13736-M | ConocoPhillips Anchorage, AK | 4 | 03-31-2010
14466-M | Alaska Pacific Powder Company Anchorage, AK | 4 | 03-31-2010
11156-M | Alaska Pacific Powder Company Anchorage, AK | 4 | 03-31-2010
10945-M | Structural Composites Industries, LLC Pomona, CA | 4 | 03-31-2010
12629-M | TEA Technologies, Inc. Amarillo, TX | 1 | 03-31-2010
14167-M | Trinityrail Dallas, TX | 4 | 03-31-2010
14810-N | Olin Corporation, Chlor Alkai Products Division Cleveland, TN | 4 | 03-31-2010
14813-N | Organ Recovery Systems Des Plaines, IL | 4 | 03-31-2010
14831-N | Gasitech Industries—Gas—Handelsgesellschaft mbH | 1 | 03-31-2010
14832-N | Trinity Industries, Inc. Dallas, TX | 4 | 03-31-2010
14835-N | The Reusable Industrial Packaging Association Washington, DC | 4 | 03-31-2010
14845-N | Progress Rail Services Albertville, AL | 4 | 03-31-2010
14839-N | Matheson Tn-Gas, Inc. Basking Ridge, NJ | 4 | 03-31-2010
14864-N | Balchem Corporation New Hampton, NY | 4 | 03-31-2010
14865-N | Alaska Railroad Corporation Anchorage, AK | 4 | 03-31-2010
14851-N | Alaska Air Group, Inc. Seattle, WA | 4 | 03-31-2010
14849-N | Rechargeable Battery Recycling Corporation Atlanta, GA | 4 | 03-31-2010
14868-N | Wal-Mart Stores, Inc. Bentonville, AR | 4 | 03-31-2010
14861-N | Gliko Aviation Inc. Belt, MT | 4 | 03-31-2010
14862-N | U.S. Custom Harvesters, Inc. Hutchinson, KS | 4 | 01-31-2010
14859-N | Minuteman Aviation Inc. (MAI) Missoula, MT | 4 | 03-31-2010
14878-N | Humboldt County Waste Management Authority Eureka, CA | 4 | 03-31-2010
14872-N | Arkema, Inc. Philadelphia, PA | 4 | 03-31-2010
14875-N | Canton Railroad Company Baltimore, MD | 4 | 03-31-2010
14883-N | Structural Composites Industries (SCI) Pomona, CA | 4 | 03-31-2010
14885-N | Kinsbursky Brothers Supply, Inc. | 4 | 03-31-2010
14890-N | Liquid Transport Corp. Indianapolis, IN | 4 | 03-31-2010

[FR Doc. 2010-1738 Filed 1-29-10; 8:45 am]

BILLING CODE 4910-60-M